DEPARTMENT OF ENERGY

Federal Energy Regulatory Commission

[Project No. 15038-001]

Let It Go, LLC; Notice of Application Accepted for Filing, Intent To Waive Scoping, Soliciting Motions To Intervene and Protests, Ready for Environmental Analysis, and Soliciting Comments, Terms and Conditions, Recommendations, and Prescriptions

Take notice that the following hydroelectric application has been filed with the Commission and is available for public inspection.

a. Type of Application: Exemption from Licensing.

b. Project No.: 15038-001.

c. Date filed: December 9, 2021.

d. Applicant: Let It Go, LLC (Let It Go).

e. Name of Project: Jefferson Mill Hydroelectric Project (Jefferson Mill Project).

f. Location: On the Hardware River near the Town of Scottsville, Albemarle County, Virginia. The project would not occupy Federal land.

g. Filed Pursuant to: Public Utility Regulatory Policies Act of 1978, 16 U.S.C. 2705, 2708, amended by the Hydropower Regulatory Efficiency Act of 2013, Public Law 113-23, 127 Stat. 493 (2013).

h. Applicant Contacts: Aaron Van Duyne III, Let It Go, LLC c/o Van Duyne, Bruno & Co., P.A.; 18 Hook Mountain Road, Suite 202, P.O. Box 896, Pine Brook, NJ 07058; avanduyne@vb-cpa.com; Kevin O'Brien, 809 Bolling Ave, Unit C, Charlottesville, VA 22902; (703) 966-2438 or kaob@fpcinc.biz; and/or Jessica Penrod (lead contact for project questions), Natel Energy, 2401 Monarch St, Alameda, CA 94501; 415-845-1933 or Jeffersonmill@natelenergy.com.

i. FERC Contact: Andy Bernick, (202) 502-8660, or andrew.bernick@ferc.gov.

j. Deadline for filing comments, motions to intervene and protests, terms and conditions, recommendations, and prescriptions: 60 days from the issuance date of this notice; reply comments are due 105 days from the issuance date of this notice.

The Commission strongly encourages electronic filing. Please file motions to intervene, protests, comments, terms and conditions, recommendations, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number 15038-001.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing and is now ready for environmental analysis.

l. The proposed project would consist of: (1) an existing 140-foot-long, 9-foot-high masonry dam that impounds a 1.46-acre reservoir with a gross volume of 5.3 acre-feet at the normal pool elevation of 320.0 feet North American Vertical Datum of 1988 (NAVD88); (2) a new 12.5-foot-wide, 4-foot-high intake rack with 0.75-inch spacing to prevent river debris from entering the intake; (3) a new 14-foot-long, 12-foot-wide, and 10-foot-high reinforced concrete intake structure, mostly constructed below-grade and upstream of the dam on the west side of the river; (4) a new 70-foot-long, 3-foot-diameter penstock; (5) a new eel ramp for the upstream passage of American eel and sea lamprey; (6) an existing 3-foot-wide and 0.9-foot-high low-flow notch and 4.6-foot-deep plunge pool for downstream fish passage; (7) an existing 33-foot-wide, 8-foot-long, 14-foot-high powerhouse with one new 20-kilowatt (kW) turbine-generator unit; (8) two new 100-foot-long underground utility trenches (containing conduits for utility power, generator power, and communications) between the powerhouse and control equipment shed; (9) a new draft tube that connects the exit of the turbine to the tailrace; (10) a transmission line connecting the project to the distribution system owned by the Appalachian Power Company; and (11) appurtenant facilities. The project is estimated to generate an average of 111,000 kW-hours annually. The applicant proposes to operate the project in a run-of-river mode.

m. On February 16, 2022, Let It Go filed a request to waive scoping to expedite the exemption process, and received support for the waiver from the U.S. Fish and Wildlife Service, Virginia Marine Resources Commission, Virginia Department of Historic Resources, and the U.S. Army Corps of Engineers. Due to the small size and location of this project, the applicant's close coordination with federal and state agencies during preparation of the application, and studies completed during pre-filing consultation, we intend to waive scoping. Based on a review of the application and resource agency consultation letters including comments filed to date, Commission staff does not anticipate that any new issues would be identified through additional scoping. Based on the issues identified during the pre-filing period, staff's National Environmental Policy Act (NEPA) document will consider the potential effects of project construction and operation on geology and soils, aquatic, terrestrial, threatened and endangered species, recreation, and cultural and historic resources.

n. A copy of the application can be viewed on the Commission's website at https://www.ferc.gov using the “eLibrary” link. Enter the docket number excluding the last three digits in the docket number field to access the document. For assistance, contact FERC Online Support.

Register online at https://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Updated procedural schedule and final amendments: The application will be processed according to the following procedural schedule. Revisions to the schedule may be made as appropriate.

Milestone | Target date
Deadline for filing interventions, protests, comments, recommendations, terms and conditions, and fishway prescriptions | September 2022.
Deadline for filing reply comments | November 2022.

q. Final amendments to the application must be filed with the Commission no later than 30 days from the issuance date of this notice of ready for environmental analysis.

Dated: July 21, 2022.
Debbie-Anne A. Reese,
Deputy Secretary.

[FR Doc. 2022-16114 Filed 7-26-22; 8:45 am]

BILLING CODE 6717-01-P